NATIONAL SCIENCE FOUNDATION

Special Emphasis Panel in Elementary, Secondary and Informal Education; Notice of Meeting

In accordance with the Federal Advisory Committee Act (Pub. L. 92-463, as amended), the National Science Foundation announces the following meeting.

Name and Committee Code: Special Emphasis Panel in Elementary, Secondary and Informal Education (#59)

Date and Time: Sunday, July 30, 2000, 5 p.m. to 9 p.m.; and Monday, July 31, 2000 through Wednesday, August 2, 2000; 8 a.m. to 5 p.m.

Place: Capitol Hilton Hotel, 16th and K Street, NW., Washington, DC.

Type of Meeting: Closed.

Contact Person: Anna Suarez, Program Director, Presidential Awardees, Education and Human Resources, Secondary and Informal Education, National Science Foundation, 4201 Wilson Blvd., Arlington, VA 22230. Telephone: (703) 306-1613.

Purpose of Meeting: To select the Presidential Awardees for 2000.

Agenda: To review and select applicants for the Presidential Awards for Excellence in Mathematics and Science Teaching.

Reason for Closing: The applicants being reviewed include information of a proprietary or confidential nature, including technical information; financial data, such as salaries; and personal information concerning individuals associated with the proposals. These matters are exempt under 5 U.S.C. 552b(c), (4) and (6) of the Government in the Sunshine Act.

Dated: July 5, 2000.
Karen J. York,
Committee Management Officer.

[FR Doc. 00-17435 Filed 7-10-00; 8:45 am]

BILLING CODE 7555-01-M